DEPARTMENT OF TRANSPORTATION

Federal Aviation Administration

14 CFR Part 39

[Docket No. 2002-NM-314-AD; Amendment 39-12993; AD 2002-24-52]

RIN 2120-AA64

Airworthiness Directives; Boeing Model 747-400, -400D, and -400F Series Airplanes

AGENCY: Federal Aviation Administration, DOT.

ACTION: Final rule; request for comments.

SUMMARY: This document publishes in the Federal Register an amendment adopting airworthiness directive (AD) 2002-24-52 that was sent previously to all known U.S. owners and operators of all Boeing Model 747-400, -400D, and -400F series airplanes by individual notices. This AD continues to require revising the Airplane Flight Manual to require the flightcrew to maintain certain minimum fuel levels in the center fuel tanks, and to prohibit the use of the horizontal stabilizer fuel tank. This AD also removes the reference to placards that was specified in the operating limitations required by another AD. This action is prompted by reports indicating that two fuel pumps showed evidence of extreme localized overheating of parts in the priming and vapor pump section of the fuel pump. Such overheating provides an ignition source in the fuel tank during dry running of the pump, which could result in fire/explosion of the fuel tank. The actions specified by this AD are intended to require the flightcrew to maintain certain minimum fuel levels in the center fuel tanks, and to prohibit the use of the horizontal stabilizer fuel tank.

DATES: Effective January 6, 2003, to all persons except those persons to whom it was made immediately effective by emergency AD 2002-24-52, issued November 24, 2002, which contained the requirements of this amendment.

Comments for inclusion in the Rules Docket must be received on or before March 3, 2003.

ADDRESSES: Submit comments in triplicate to the Federal Aviation Administration (FAA), Transport Airplane Directorate, ANM-114, Attention: Rules Docket No. 2002-NM-314-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-314-AD” in the subject line and need not be submitted in triplicate. Comments sent via the Internet as attached electronic files must be formatted in Microsoft Word 97 for Windows or ASCII text.

Information pertaining to this amendment may be examined at the FAA, Transport Airplane Directorate, 1601 Lind Avenue, SW., Renton, Washington; or at the Office of the Federal Register, 800 North Capitol Street, NW., suite 700, Washington, DC.

FOR FURTHER INFORMATION CONTACT: Bernie Gonzalez, Aerospace Engineer, Propulsion Branch, ANM-140S, FAA, Seattle Aircraft Certification Office, 1601 Lind Avenue, SW., Renton, Washington 98055-4056; telephone (425) 227-2682; fax (425) 227-1181.

SUPPLEMENTARY INFORMATION: On November 24, 2002, the FAA issued emergency AD 2002-24-52, which is applicable to all Boeing Model 747-400, -400D, and -400F series airplanes.

On November 23, 2002, the FAA issued emergency AD 2002-24-51, applicable to all Boeing Model 737-600, -700, -700C, -800, and -900 series airplanes; Model 747 series airplanes; and Model 757 series airplanes. That AD was prompted by reports indicating that two fuel pumps from different Model 747 series airplanes showed evidence of extreme localized overheating of parts in the priming and vapor pump section of the fuel pump. Such overheating provides an ignition source in the fuel tank during dry running of the pump, which could result in fire/explosion of the fuel tank.

AD 2002-24-51 reinstated operating limitations originally imposed by AD 2002-19-52, amendment 39-12900 (67 FR 61253, September 30, 2002). Specifically for Model 747-400, -400D, and -400F series airplanes, AD 2002-24-51 includes a provision that prohibits fueling and use of the horizontal stabilizer tank “* * * if a placard prohibiting its use is installed.” (That phrase appears in the first paragraph of the required operating limitation.)

Actions Since Issuance of Previous Rule

Since the issuance of that AD, we have become aware that the reference to placards in the Airplane Flight Manual (AFM) revision for Model 747-400, -400D, and -400F series airplanes should not have been restated because, unlike AD 2002-19-52, AD 2002-24-51 does not require installation of placards. Therefore, if an operator has done the terminating actions specified in AD 2002-19-52 and removed the placards required by that AD, the limitation imposed by AD 2002-24-51 would not prohibit fueling and use of the horizontal stabilizer tank. This would be contrary to the intent of AD 2002-24-51.

Explanation of Requirements of the Rule

Since the unsafe condition described is likely to exist or develop on other airplanes of the same type design, the FAA issued emergency AD 2002-24-52 to continue to require revising the AFM to require the flightcrew to maintain certain minimum fuel levels in the center fuel tanks, and to prohibit the use of the horizontal stabilizer fuel tank. However, this AD removes the reference to placards that was specified in the operating limitations required by AD 2002-24-51.

The compliance time of this AD remains the same as that specified in AD 2002-24-51 (“within 4 days after receipt” of AD 2002-24-51). In addition, paragraph (b) of this AD states that, if an operator has already complied with AD 2002-24-51, it can comply with this AD simply by deleting the phrase “if a placard prohibiting its use is installed” from the first paragraph of the operating limitation required by AD 2002-24-51.

Interim Action

This is considered to be interim action until final action is identified, at which time the FAA may consider further rulemaking.

Since it was found that immediate corrective action was required, notice and opportunity for prior public comment thereon were impracticable and contrary to the public interest, and good cause existed to make the AD effective immediately by individual notices issued on November 24, 2002, to all known U.S. owners and operators of all Boeing Model 747-400, -400D, and -400F series airplanes. These conditions still exist, and the AD is hereby published in the Federal Register as an amendment to section 39.13 of the Federal Aviation Regulations (14 CFR 39.13) to make it effective to all persons.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-314-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-24-52 Boeing: Amendment 39-12993. Docket 2002-NM-314-AD.

Applicability: All Model 747-400, -400D, and -400F series airplanes, certificated in any category.

Compliance: Required as indicated, unless accomplished previously.

To require the flightcrew to maintain certain minimum fuel levels in the center fuel tanks, and to prohibit the use of the horizontal stabilizer fuel tank, accomplish the following:

Airplane Flight Manual (AFM) Revision: Model 747-400, -400D, and -400F

(a) For Model 747-400, -400D, and -400F series airplanes: Within 4 days after receipt of emergency AD 2002-24-51, instead of complying with the requirements of paragraph (d) of AD 2002-24-51, revise the Limitations Section of the AFM to include the following (this may be accomplished by inserting a copy of this AD into the AFM):

Certificate Limitations

Fueling and use of the horizontal stabilizer tank (if installed) is prohibited.

The center wing tank (CWT) must contain a minimum of 17,000 pounds (7,700 kilograms) prior to engine start, if the CWT override/jettison pumps are to be selected On during flight.

The CWT fuel quantity indication system must be operative to dispatch with CWT mission fuel.

Both CWT override/jettison pump switches must be selected Off at or before CWT fuel quantity reaches 7,000 pounds (3,200 kilograms), if CWT fuel quantity is less than 50,000 pounds (22,700 kilograms) prior to engine start. The CWT override pumps may be selected ON during stabilized cruise conditions. Both CWT override/jettison pump switches must be selected Off at or before the CWT fuel quantity reaches 3,000 pounds (1,400 kilograms).

Note

With CWT override/jettison pumps selected Off and CWT fuel quantity greater than 6,000 pounds (2,800 kilograms), the FUEL OVRD CTR L & R EICAS messages will be displayed. Do not accomplish the associated non-normal procedure.

Both CWT override/jettison pump switches must be selected Off at or before CWT fuel quantity reaches 3,000 pounds (1,400 kilograms), if CWT fuel quantity is greater than or equal to 50,000 pounds (22,700 kilograms) prior to engine start.

Both CWT override/jettison pumps must be selected Off when either CWT override/jettison fuel pump low pressure light illuminates.

Warning

Do not reset a tripped fuel pump circuit breaker.

Warning

Do not cycle CWT override/jettison pump switches from On to Off to On with any continuous low pressure indication present.

Note

The center wing tank may be emptied normally during an emergency fuel jettison.

Note

In a low fuel situation, both CWT override/jettison pumps may be selected On and all CWT fuel may be used.

If a center wing tank pump fails with fuel in the center tank, accomplish the FUEL OVRD CTR L, R non-normal procedure.

If the main tanks are not full, the zero fuel gross weight of the airplane plus the weight of CWT tank fuel may exceed the maximum zero fuel gross weight by up to 7,000 pounds (3,200 kilograms) for takeoff, climb, cruise, descent, and landing, provided that the effects of balance (CG) have been considered.

When defueling any fuel tanks, the Fuel Pump Low Pressure indication lights must be monitored and the fuel pumps positioned to Off at the first indication of fuel pump low pressure. Defueling with passengers on board is prohibited.

The limitations contained in this AD supersede any conflicting basic airplane flight manual limitations.”

(b) If an operator has already complied with AD 2002-24-51, it can comply with this AD by deleting the phrase “if a placard prohibiting its use is installed” from the first paragraph of the AFM revision required by paragraph (d) of AD 2002-24-51.

Alternative Methods of Compliance

(c)(1) An alternative method of compliance or adjustment of the compliance time that provides an acceptable level of safety may be used if approved by the Manager, Seattle Aircraft Certification Office (ACO), FAA. Operators shall submit their requests through an appropriate FAA Principal Operations Inspector, who may add comments and then send it to the Manager, Seattle ACO.

(2) Alternative methods of compliance, approved previously in accordance with AD 2002-19-52, amendment 39-12900, are not considered to be approved as alternative methods of compliance with this AD.

Note 1: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Effective Date

(e) This amendment becomes effective on January 6, 2003, to all persons except those persons to whom it was made immediately effective by emergency AD 2002-24-52, issued on November 24, 2002, which contained the requirements of this amendment.

Issued in Renton, Washington, on December 23, 2002.
Vi L. Lipski,
Manager, Transport Airplane Directorate, Aircraft Certification Service.

[FR Doc. 02-32884 Filed 12-31-02; 8:45 am]

BILLING CODE 4910-13-P